DEPARTMENT OF ENERGY

Federal Energy Regulatory Commission

Combined Notice Of Filings

Take notice that the Commission has received the following Natural Gas Pipeline Rate and Refund Report filings:

Docket Numbers: RP20-1132-000.

Applicants: Equitrans, L.P.

Description: § 4(d) Rate Filing: Negotiated Rate Agreement—EQT FTS—9/1/2020 to be effective 9/1/2020.

Filed Date: 8/31/20.

Accession Number: 20200831-5111.

Comments Due: 5 p.m. ET 9/14/20.

Docket Numbers: RP20-1133-000.

Applicants: Gulf South Pipeline Company, LLC.

Description: § 4(d) Rate Filing: Cap Rel Neg Rate Agmt (Atlanta Gas 8438 to various eff 9-1-2020) to be effective9/1/2020.

Filed Date: 8/31/20.

Accession Number: 20200831-5168.

Comments Due: 5 p.m. ET 9/14/20.

Docket Numbers: RP20-1134-000.

Applicants: Florida Gas Transmission Company, LLC.

Description: § 4(d) Rate Filing: Fuel Filing on 8-31-20 to be effective 10/1/2020.

Filed Date: 8/31/20.

Accession Number: 20200831-5124.

Comments Due: 5 p.m. ET 9/14/20.

Docket Numbers: RP20-1135-000.

Applicants: Viking Gas Transmission Company.

Description: Compliance filing Temporary and Limited Waiver of Part 8.26 Fuel and Loss Retention Adjustment.

Filed Date: 8/31/20.

Accession Number: 20200831-5125.

Comments Due: 5 p.m. ET 9/14/20.

Docket Numbers: RP20-1136-000.

Applicants: Gulf South Pipeline Company, LLC.

Description: § 4(d) Rate Filing: Cap Rel Neg Rate Agmt (Marathon 51754 to ConocoPhillips 53068) to be effective9/1/2020.

Filed Date: 8/31/20.

Accession Number: 20200831-5133.

Comments Due: 5 p.m. ET 9/14/20.

Docket Numbers: RP20-1137-000.

Applicants: Gulf South Pipeline Company, LLC.

Description: § 4(d) Rate Filing: Cap Rel Neg Rate Agmt (Constellation 53028 to Exelon 53080) to be effective 9/1/2020.

Filed Date: 8/31/20.

Accession Number: 20200831-5134.

Comments Due: 5 p.m. ET 9/14/20.

Docket Numbers: RP20-1138-000.

Applicants: Gulf South Pipeline Company, LLC.

Description: § 4(d) Rate Filing: Cap Rel Neg Rate Agmt (Mobile 42488 to Southern 53082) to be effective 9/1/2020.

Filed Date: 8/31/20.

Accession Number: 20200831-5136.

Comments Due: 5 p.m. ET 9/14/20.

Docket Numbers: RP20-1139-000.

Applicants: Crossroads Pipeline Company.

Description: Compliance filing Compliance to RP20-657 Settlement to be effective 10/1/2020.

Filed Date: 8/31/20.

Accession Number: 20200831-5137.

Comments Due: 5 p.m. ET 9/14/20.

Docket Numbers: RP20-1140-000.

Applicants: UGI Sunbury, LLC.

Description: § 4(d) Rate Filing: Modify Annual Charge Adjustment (ACA) Provision to be effective 10/1/2020.

Filed Date: 8/31/20.

Accession Number: 20200831-5138.

Comments Due: 5 p.m. ET 9/14/20.

Docket Numbers: RP20-1141-000.

Applicants: Columbia Gulf Transmission, LLC.

Description: Compliance filing CGT Cashout Report 2020 to be effectiveN/A.

Filed Date: 8/31/20.

Accession Number: 20200831-5148.

Comments Due: 5 p.m. ET 9/14/20.

Docket Numbers: RP20-1142-000.

Applicants: MoGas Pipeline LLC.

Description: § 4(d) Rate Filing: MoGas Pipeline Annual Fuel Tracker Filing to be effective 10/1/2020.

Filed Date: 8/31/20.

Accession Number: 20200831-5154.

Comments Due: 5 p.m. ET 9/14/20.

Docket Numbers: RP20-1143-000.

Applicants: Algonquin Gas Transmission, LLC.

Description: § 4(d) Rate Filing: Negotiated Rates—Various 9-1-2020 Releases to be effective 9/1/2020.

Filed Date: 8/31/20.

Accession Number: 20200831-5167.

Comments Due: 5 p.m. ET 9/14/20.

Docket Numbers: RP20-1144-000.

Applicants: Dauphin Island Gathering Partners.

Description: § 4(d) Rate Filing: Negotiated Rate Filing—Chevron 8-31-2020 to be effective 9/1/2020.

Filed Date: 8/31/20.

Accession Number: 20200831-5184.

Comments Due: 5 p.m. ET 9/14/20.

Docket Numbers: RP20-1145-000.

Applicants: NEXUS Gas Transmission, LLC.

Description: § 4(d) Rate Filing: Negotiated Rates—Columbia Gas 860005 9-1-2020 Releases to be effective 9/1/2020.

Filed Date: 8/31/20.

Accession Number: 20200831-5186.

Comments Due: 5 p.m. ET 9/14/20.

Docket Numbers: RP20-1146-000.

Applicants: WBI Energy Transmission, Inc.

Description: § 4(d) Rate Filing: 2020 Semi-Annual Fuel & Electric Power Reimbursement Adjustment to be effective 10/1/2020.

Filed Date: 8/31/20.

Accession Number: 20200831-5261.

Comments Due: 5 p.m. ET 9/14/20.

Docket Numbers: RP20-1147-000.

Applicants: Northern Natural Gas Company.

Description: § 4(d) Rate Filing: 20200831 Negotiated Rate Filing to be effective 9/1/2020.

Filed Date: 8/31/20.

Accession Number: 20200831-5264.

Comments Due: 5 p.m. ET 9/14/20.

Docket Numbers: RP20-1148-000.

Applicants: Dominion Energy Cove Point LNG, LP.

Description: Compliance filing DECP—2020 Revenue Crediting Report to be effective N/A.

Filed Date: 8/31/20.

Accession Number: 20200831-5268.

Comments Due: 5 p.m. ET 9/14/20.

Docket Numbers: RP20-1149-000.

Applicants: Dominion Energy Carolina Gas Transmission.

Description: Compliance filing DECG—2020 Penalty Crediting Sharing Report to be effective N/A.

Filed Date: 8/31/20.

Accession Number: 20200831-5300.

Comments Due: 5 p.m. ET 9/14/20.

Docket Numbers: RP20-1150-000.

Applicants: MarkWest Pioneer, L.L.C.

Description: § 4(d) Rate Filing: Quarterly Fuel Adjustment Filing to be effective 10/1/2020.

Filed Date: 8/31/20.

Accession Number: 20200831-5305.

Comments Due: 5 p.m. ET 9/14/20.

Docket Numbers: RP20-1151-000.

Applicants: El Paso Natural Gas Company, L.L.C.

Description: § 4(d) Rate Filing: Negotiated Rate Agreement Update (APS Sept 2020) to be effective 9/1/2020.

Filed Date: 8/31/20.

Accession Number: 20200831-5316.

Comments Due: 5 p.m. ET 9/14/20.

Docket Numbers: RP20-1152-000.

Applicants: Natural Gas Pipeline Company of America.

Description: § 4(d) Rate Filing: Negotiated Rate Agreements Filing-Sabine Pass Liquefaction, LLC to be effective 10/1/2020.

Filed Date: 8/31/20.

Accession Number: 20200831-5386.

Comments Due: 5 p.m. ET 9/14/20.

Docket Numbers: RP20-1153-000.

Applicants: Southern Star Central Gas Pipeline, Inc.

Description: § 4(d) Rate Filing: Vol. 2—Non-Conforming Discount Agreement—Spire Marketing to be effective 9/1/2020.

Filed Date: 8/31/20.

Accession Number: 20200831-5404.

Comments Due: 5 p.m. ET 9/14/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 1, 2020.
Nathaniel J. Davis, Sr.,
Deputy Secretary.

[FR Doc. 2020-19767 Filed 9-4-20; 8:45 am]

BILLING CODE 6717-01-P